DEPARTMENT OF AGRICULTURE

Forest Service

Information Collection; Qualified Products List for Water Enhancers

AGENCY: Forest Service, USDA.

ACTION: Notice; request for comment.

SUMMARY: In accordance with the Paperwork Reduction Act of 1995, the Forest Service is seeking comments from all interested individuals and organizations on the extension with no revision of a currently approved information collection, Qualified Products List for Water Enhancers.

DATES: Comments must be received in writing on or before June 24, 2008 to be assured of consideration. Comments received after that date will be considered to the extent practicable.

ADDRESSES: Victoria Henderson, Branch Director, Equipment and Chemicals, USDA Forest Service, National Interagency Fire Center, 3833 S. Development Avenue, Boise, Idaho 83705.

Comments also may be submitted via facsimile to (208) 387-5971 or by e-mail to: thenderson@fs.fed.us.

The public may inspect comments received at the National Interagency Fire Center (NIFC), Jack Wilson Building, in Boise, Idaho, Monday through Friday between 10 a.m. to 3 p.m. Visitors are encouraged to call ahead to (208) 387-5348 to facilitate entry to the building.

FOR FURTHER INFORMATION CONTACT: Les Holsapple, Missoula Technology and Development Center (MTDC), (406) 829-6761, or Cecilia Johnson, MTDC, (406) 329-4819, or Tory Henderson, NIFC, (208) 387-5348. Individuals who use telecommunication devices for the deaf (TDD) may call the Federal Relay Service (FRS) at 1-800-877-8339 twenty-four hours a day, every day of the year, including holidays.

SUPPLEMENTARY INFORMATION:

Title: Qualified Products List for Water Enhancers.

OMB Number: 0596-0182.

Expiration Date of Approval: December 31, 2008.

Type of Request: Extension with no revision.

Abstract: The Forest Service needs to have available adequate types and quantities of qualified fire chemical products to accomplish fire management activities safely, efficiently, and effectively. To accomplish this objective, the Agency needs to evaluate and pre-approve commercial water enhancer products. Products must meet specification standards identified and maintained by Forest Service Missoula Technology and Development Center (MTCD) staff. The MTDC staff utilizes the List of Known and Suspected Carcinogens and the Environmental Protection Agency's List of Highly Hazardous Materials in analyzing these products. A risk analysis may also be required.

MTDC employees consider the following to determine whether products are safe for use by Forest Service employees and Federal cooperators:

• Products must not include ingredients that create an enhanced risk in typical use to either the firefighters or the public.

• Effects are based upon acute toxicity determinations of the products and a review of lists of known and suspected carcinogens.

• The safety of the firefighters equipment, either ground-based or aircraft (i.e., uniform corrosion tests, intergrandular).

• Safety to the environment in terms of aquatic environments (fish and clean water) and terrestrial environments (wildlife and plants)—risk determinations identify products that do not enhance risk to those environments in typical use.

• Acute toxicity concerns.

• Efficiency is evaluated based upon such items as (1) the range of mix ratios of concentrate products with water appropriate for storage and handling in typical wildland fire operations to provide products that are storable and/or can be kept available on fire equipment, and (2) can be mixed and used with readily available equipment and facilities.

• Effectiveness tests for these products are based upon those products ability to reduce fire spread and intensity even after the water carrier has evaporated away.

The information submitted by manufacturers on two forms: The Confidential Disclosure Sheets and Technical Data Sheets sent to experienced staff at the MTDC, located in Missoula, Montana. These forms are available in either electronic form via e-mail or paper copies, and the manufacturers may submit them to the MTDC in either form.

This information includes listings of specific individual ingredients and the quantity of these ingredients in the formulation of the products, identification of the specific sources of supply for each ingredient, and the specific mixing and hydration requirements of gum-thickened products. If a risk analysis is determined to be necessary, the FS will request the manufacturer to send a copy of the product labeling. In these cases, a third party assesses specific levels of products or ingredients expected to occur in typical application relative to human and environmental health. Once the manufacturers (and/or their suppliers) have submitted their information and payment for the analysis and evaluation, the MTDC staff will begin to test these water enhancer products safety, efficiency, and effectiveness.

The collection of this information for each product submitted for evaluation is necessary due to the (1) length of time necessary to test the water enhancer products and perform the analysis/evaluation of those products, which takes over a year, and (2) the FS need to ensure the safety, effectiveness, and efficiency of retardant products prior to their use.

If this information is not collected and water enhancer products are not analyzed and evaluated on an on-going basis, our ability to solicit and award water enhancer contracts in a timely manner would not be possible.

Estimate of Annual Burden: 4.5 hours.

Type of Respondents: Businesses (manufacturers and suppliers).

Estimated Annual Number of Respondents: 3.

Estimated Annual Number of Responses per Respondent: 3.

Estimated Total Annual Burden on Respondents: 40.5 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: April 17, 2008.
Robin L. Thompson,
Associate Deputy Chief, State and Private Forestry.

[FR Doc. E8-9174 Filed 4-24-08; 8:45 am]

BILLING CODE 3410-11-P